DEPARTMENT OF COMMERCE

National Oceanic and Atmospheric Administration

[I.D. 102102E]

Fisheries off West Coast States and in the Western Pacific; Reopening of the Comment Period

AGENCY: National Marine Fisheries Service (NMFS), National Oceanic and Atmospheric Administration (NOAA), Commerce.

ACTION: Reopening of the comment period.

SUMMARY: NMFS reopens the public comment period on the Draft Programmatic Environmental Impact Statement (DPEIS) for Pacific Salmon Fisheries Management off the Coasts of Southeast Alaska, Washington, Oregon, and California, and in the Columbia River Basin.

DATES: Comments must be received on or before November 22, 2002.

ADDRESSES: Comments on this action should be sent to D. Robert Lohn, Regional Administrator, Northwest Region, NMFS, 7600 Sand Point Way, N.E., BIN c157000-Bldg 1, Seattle, WA 98115-0070.

FOR FURTHER INFORMATION CONTACT: Peter Dygert, Sustainable Fisheries Division, Northwest Region, NMFS, 206-526-6734.

SUPPLEMENTARY INFORMATION: The notice of availability of the DPEIS was published by the Environmental Protection Agency (EPA) in the Federal Register on August 23, 2002 (67 FR 54649). Comments were requested by October 22, 2002. On October 18, 2002, NMFS received a request from EPA Region 10 to reopen the comment period on the DPEIS. This document announces the reopening of the comment period.

Dated: October 23, 2002.
Dean Swanson,
Acting Director, Office of Sustainable Fisheries, National Marine Fisheries Service.

[FR Doc. 02-27508 Filed 10-28-02; 8:45 am]

BILLING CODE 3510-22-S